DEPARTMENT OF HEALTH AND HUMAN SERVICES

Centers for Disease Control and Prevention

[60Day-17-17AGP; Docket No. CDC-2017-0049]

Proposed Data Collection Submitted for Public Comment and Recommendations

AGENCY: Centers for Disease Control and Prevention, Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled “Monitoring and Reporting for the Core State Violence and Injury Prevention (Core SVIPP) Program Cooperative Enhanced Component—Regional Network Coordinating Organization (RNCO)” CDC will use the collection to collect information needed for programmatic activities of the Regional Network Coordinating Organization (RNCO) enhanced component funded under the Core State Violence and Injury Prevention Program (Core SVIPP) cooperative agreement (CDC-RFA-CE16-1602).

DATES: Written comments must be received on or before July 31, 2017.

ADDRESSES: You may submit comments, identified by Docket No. CDC-2017-0049 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road, NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Monitoring and Reporting for the Core State Violence and Injury Prevention (Core SVIPP) Program Cooperative Enhanced Component—Regional Network Coordinating Organization (RNCO)—New—National Center for Injury Prevention and Control (NCIPC), Centers for Disease Control and Prevention (CDC).

Background and Brief Description

CDC intends to request a three-year OMB approval for this new collection. CDC's National Center for Injury Prevention and Control (NCIPC) is committed to working with its partners to promote action that reduces injuries, violence, and disabilities, by providing leadership in identifying priorities, promoting prevention strategies, developing useful tools, and monitoring the effectiveness of Injury and Violence Prevention (IVP) program activities.

Unintentional and violence-related injuries and their consequences are the leading causes of death for the first four decades of life, regardless of gender, race, or socioeconomic status. More than 192,000 individuals in the United States die each year as a result of unintentional injuries and violence, and more than 31 million others suffer non-fatal injuries requiring emergency department visits each year.

This collection is to collect information needed for programmatic activities of the Regional Network Coordinating Organization (RNCO) enhanced component funded under the Core State Violence and Injury Prevention Program (Core SVIPP) cooperative agreement (CDC-RFA-CE16-1602) Member entities (state health departments at their partners) of the RNCO awardees will respond to a membership survey annually. Member entities of the RNCO awardees will also participate in annual focus groups to inform and contribute to National Peer Learning Teams (NPLT). No research design or human subjects are involved.

The data will be analyzed using descriptive and summary statistics as well as qualitative summaries. Information to be collected will provide crucial data for program planning and continuous quality improvement of program. The data will also provide CDC with the capacity to respond in a timely manner to requests for information about the program from the Department of Health and Human Services (HHS), the White House, Congress, and other sources. The only cost to respondents will be time spent responding to the survey.

Estimated Annualized Burden Hours
Type of respondents | Instrument name | Number of respondents | Number of responses per respondent | Average burden per response (hours) | Total burden (hours)
RNCO Member Survey | Annual RNCO and NPLT Survey | 250 | 1 | 3 | 750
RNCO NLPT Focus Group Protocol | Annual NPLT Member Focus Group Protocol | 125 | 1 | 1.5 | 188
Total |  |  |  |  | 938

Leroy A. Richardson,
Chief, Information Collection Review Office, Office of Scientific Integrity, Office of the Associate Director for Science,Office of the Director, Centers for Disease Control and Prevention.

[FR Doc. 2017-11110 Filed 5-30-17; 8:45 am]

BILLING CODE 4163-18-P